DEPARTMENT OF THE INTERIOR

National Park Service

[NPS-WASO-NRNHL-14178; PPWOCRADI0, PCU00RP14.R50000]

National Register of Historic Places; Notification of Pending Nominations and Related Actions

Nominations for the following properties being considered for listing or related actions in the National Register were received by the National Park Service before September 21, 2013. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by November 12, 2013. Before including your address, phone number, email address, or other personal identifying information in your comment, you should be aware that your entire comment—including your personal identifying information—may be made publicly available at any time. While you can ask us in your comment to withhold your personal identifying information from public review, we cannot guarantee that we will be able to do so.

Dated: September 24, 2013.
Alexandra Lord,
Acting Chief, National Register of Historic Places/National Historic Landmarks Program.

NORTH DAKOTA

Dickey County

White Stone Hill, (Federal Relief Construction in North Dakota, 1931-1943, MPS) Address Restricted, Kulm, 13000861

Pembina County

Vikur Lutheran Church at Mountain, 290 Main Ave., Mountain, 13000862

Walsh County

Edinburg WPA Auditorium, (Federal Relief Construction in North Dakota, 1931-1943, MPS) 67 Main St., Edinburg, 13000863

WISCONSIN

Marathon County

Fromm Brothers Fur and Ginsing Farm, 436 Cty. Rd. F, Hamburg, 13000864

Shawano County

Lincoln School, 237 S. Sawyer St., Shawano, 13000865

[FR Doc. 2013-25099 Filed 10-24-13; 8:45 am]

BILLING CODE 4312-51-P